DEPARTMENT OF COMMERCE

Bureau of Economic Analysis

Federal Economic Statistics Advisory Committee Meeting

AGENCY: Bureau of Economic Analysis, U.S. Department of Commerce.

ACTION: Notice of public meeting.

SUMMARY: The Bureau of Economic Analysis is giving notice of a meeting of the Federal Economic Statistics Advisory Committee (FESAC). The Committee advises the Under Secretary for Economic Affairs, the Directors of the Bureau of Economic Analysis (BEA) and the Census Bureau, and the Commissioner of the U.S. Department of Labor's Bureau of Labor Statistics (BLS) on statistical methodology and other technical matters related to the collection, tabulation, and analysis of federal economic statistics. Email Gianna Marrone, gianna.marrone@bea.gov by June 5, 2020, to attend. An agenda will be accessible prior to the meeting at https://apps.bea.gov/fesac/.

DATES: June 12, 2020. The meeting begins at approximately 9:00 a.m. and adjourns at approximately 3:30 p.m.

ADDRESSES: The meeting will be held at the Suitland Federal Center Auditorium, 4600 Silver Hill Road, Suitland, MD 20746.

FOR FURTHER INFORMATION CONTACT: Gianna Marrone, Program Analyst, U.S. Department of Commerce, Bureau of Economic Analysis, 4600 Silver Hill Road (BE-64), Suitland, MD 20746; phone (301) 278-9282; email gianna.marrone@bea.gov.

SUPPLEMENTARY INFORMATION: FESAC members are appointed by the Secretary of Commerce. The Committee advises the Under Secretary for Economic Affairs, BEA and Census Bureau Directors, and the Commissioner of the Department of Labor's BLS on statistical methodology and other technical matters related to the collection, tabulation, and analysis of federal economic statistics. The Committee is established in accordance with the Federal Advisory Committee Act (Title 5, United States Code, Appendix 2).

The meeting is open to the public and a brief period is set aside for public comments and questions. Persons with extensive questions or statements must submit them in writing by June 5, 2020, to Gianna Marrone, gianna.marrone@bea.gov.

This meeting is physically accessible to people with disabilities. Requests for sign language interpretation or other auxiliary aids should be directed to Gianna Marrone, gianna.marrone@bea.gov, preferably two weeks prior to the meeting.

Due to security protocols, meeting attendees must arrive by 8:30 a.m. and present government-issued photo identification, wear their visitor's badge, and remain on the building's first floor.

Dated: February 24, 2020.
Kyle Hood,
Designated Federal Officer, Bureau of Economic Analysis.

[FR Doc. 2020-05280 Filed 3-13-20; 8:45 am]

BILLING CODE 3510-06-P